DEPARTMENT OF COMMERCE

Foreign-Trade Zones Board

[S-68-2024]

Foreign-Trade Zone 80; Application for Subzone; Vitesco Technologies USA, LLC; Seguin, Texas

An application has been submitted to the Foreign-Trade Zones (FTZ) Board by the City of San Antonio, grantee of FTZ 80, requesting subzone status for the facility of Vitesco Technologies USA, LLC, located in Seguin, Texas. The application was submitted pursuant to the provisions of the Foreign-Trade Zones Act, as amended (19 U.S.C. 81a-81u), and the regulations of the FTZ Board (15 CFR part 400). It was formally docketed on April 11, 2024.

The proposed subzone (50 acres) is located at 3740 North Austin Street, Seguin, Texas. No authorization for production activity has been requested at this time. The proposed subzone would be subject to the existing activation limit of FTZ 80.

In accordance with the FTZ Board's regulations, Kolade Osho of the FTZ Staff is designated examiner to review the application and make recommendations to the Executive Secretary.

Public comment is invited from interested parties. Submissions shall be addressed to the FTZ Board's Executive Secretary and sent to: ftz@trade.gov. The closing period for their receipt is May 28, 2024. Rebuttal comments in response to material submitted during the foregoing period may be submitted during the subsequent 15-day period to June 11, 2024.

A copy of the application will be available for public inspection in the “Online FTZ Information Section” section of the FTZ Board's website, which is accessible via www.trade.gov/ftz.

For further information, contact Kolade Osho at Kolade.Osho@trade.gov.

Dated: April 11, 2024.
Elizabeth Whiteman,
Executive Secretary.

[FR Doc. 2024-08101 Filed 4-16-24; 8:45 am]

BILLING CODE 3510-DS-P